DEPARTMENT OF ENERGY

Federal Energy Regulatory Commission

[Docket Nos. EL00-95-081, EL00-95-074, EL00-95-086, EL00-98-069, EL00-98-062, and EL00-98-073]

San Diego Gas & Electric Company Complainant, v. Sellers of Energy and Ancillary Services Into Markets Operated by the California Independent System Operator and the California Power Exchange, Respondents; Investigation of Practices of the California Independent System Operator and the California Power Exchange; Notice of Conference

March 9, 2004.

The staff of the Federal Energy Regulatory Commission is convening a conference to discuss a settlement reached by some of the parties in the above captioned proceeding. The conference will be held on Thursday, March 18, 2004, from 1 p.m. to 5 p.m. at: Pacific Gas and Electric Company, Conference Room A, 245 Market Street, San Francisco, California.

The purpose of the conference is to inform parties of the terms of a settlement agreement recently entered into between the Williams Companies, Inc. and Williams Power Company, Inc. (collectively, Williams), on the one hand, and Southern California Edison Company and Pacific Gas and Electric Company, on the other. The settlement provides that certain additional parties may elect to join the settlement as to Williams and receive refunds in accordance with the settlement's terms. The conference will be governed by rule 602 of the Commission's rules of practice and procedures, 18 CFR 385.602 (2003). For additional information concerning the conference, interested persons may contact Robert Pease at robert.pease@ferc.gov or Lee Ann Watson leeann.watson@ferc.gov. No telephone communication bridge will be provided at this conference.

Magalie R. Salas,
Secretary.

[FR Doc. E4-563 Filed 3-15-04; 8:45 am]

BILLING CODE 6717-01-P